DEPARTMENT OF HEALTH AND HUMAN SERVICES

Centers for Medicare & Medicaid Services

42 CFR Parts 430, 438, and 457

[CMS-2439-CN]

RIN 0938-AU99

Medicaid Program; Medicaid and Children's Health Insurance Program (CHIP) Managed Care Access, Finance, and Quality; Correction

AGENCY: Centers for Medicare & Medicaid Services (CMS), Department of Health and Human Services (HHS).

ACTION: Final rule; correction.

SUMMARY: This document corrects typographical errors in the final rule that appeared in the May 10, 2024 Federal Register, entitled “Medicaid Program; Medicaid and Children's Health Insurance Program (CHIP) Managed Care Access, Finance, and Quality (referred to hereafter as the “Managed Care final rule”). The effective date of the Managed Care final rule is July 9, 2024.

DATES: This document is effective July 9, 2024.

FOR FURTHER INFORMATION CONTACT:

Rebecca Burch Mack, (303) 844-7355, Medicaid Managed Care.

Laura Snyder, (410) 786-3198, Medicaid Managed Care State Directed Payments.

Alex Loizias, (410) 786-2435, Medicaid Managed Care State Directed Payments and In Lieu of Services and Settings.

Elizabeth Jones, (410) 786-7111, Medicaid Medical Loss Ratio.

Jamie Rollin, (410) 786-0978, Medicaid Managed Care Program Integrity.

Rachel Chappell, (410) 786-3100, and Emily Shockley, (410) 786-3100, Contract Requirements for Overpayments.

Carlye Burd, (720) 853-2780, Medicaid Managed Care Quality.

Amanda Paige Burns, (410) 786-8030, Medicaid Quality Rating System.

Joshua Bougie, (410) 786-8117, and Chanelle Parkar, (667) 290-8798, CHIP.

SUPPLEMENTARY INFORMATION:

I. Background

In FR Doc. 2024-08085 of May 10, 2024 (89 FR 41002), there were typographical errors that are identified and corrected in this correcting document. These corrections are effective as if they had been included in the Managed Care final rule. Accordingly, the corrections are effective July 9, 2024.

II. Summary of Errors

A. Summary of Errors in the Preamble

On page 41003, Table 1: Applicability Dates,

a. We made a typographical error in the applicability date for §§ 438.6(c)(2)(vi)(C)(3) and (4); 438.6(c)(2)(viii); 438.6(c)(5)(i) through (iv); 438.10(c)(3); 438.68(d)(1)(iii); 438.68(d)(2); 438.207(b)(3) and (d)(2); 438.602(g)(5)-(13); 457.1207 (transparency provisions); 457.1218 (network adequacy standards); 457.1230(b); 457.1285 (transparency) by omitting a space between the words “after” and “July.”

b. We used wording in the applicability date for § 438.6(c)(4) that did not match the applicability date in regulation text.

On page 41004, Table 1, Applicability Dates, we made a typographical error in the applicability date for §§ 438.505(a)(1); 457.1240(d) by not deleting the placeholder for the effective date and inserting the actual date.

On page 41119, we made a punctuation error in “State directed payment-” by not deleting the unnecessary hyphen.

On page 41123,

a. We made a typographical error in the phrase “has standardized process” by omitting an “a”.

b. We made a typographical error in the phrase “specific MLR report” by omitting an “s”.

On page 41130, we made a typographical error and omitted “of the final rule.”.

On page 41139, we made a typographical error by omitting “of” before “an overpayment”.

On page 41168, we inadvertently used semicolons instead of periods in the sentence referencing § 438.16(e)(2)(iii)(A), (B), and (C); used a colon after “approval;” included “or” before “(C);” and omitted a space between “paragraph” and “(e)”.

On page 41245, we made a typographical error by inadvertently including “private sector” and omitting “State” when referencing the last annual burden in Estimate 13 for Medicaid and quality rating system measure collection. We also inadvertently omitted the CHIP burden estimates at the end of the paragraph.

On page 41254, in Table 6, Summary of CHIP Requirements and Burden, we made a typographical error by inadvertently excluding a CHIP-specific entry for “457.1240(d) QRS optional methodology implementation extension”.

On page 41255, in Table 6, Summary of CHIP Requirements and Burden, the figures in the “Total” entry are incorrect.

On page 41256, in Table 7, Summary of Medicaid and CHIP Requirements and Burden, the figures in the “CHIP” and the “Total” entries are incorrect.

B. Summary of Errors in the Regulation Text

On page 41274, in the regulation text for § 438.16(e)(2)(iii)(A), we inadvertently included a semicolon at the end of this paragraph.

On page 41281, in the regulation text for § 438.515(b)(1), we inadvertently included a close parenthesis at the end of this paragraph.

III. Waiver of Proposed Rulemaking

Under 5 U.S.C. 553(b) of the Administrative Procedure Act (the APA), the agency is required to publish a notice of the proposed rule in the Federal Register before the provisions of a rule take effect. In addition, section 553(d) of the APA mandates a 30-day delay in effective date after issuance or publication of a substantive rule. Sections 553(b)(B) and 553(d)(3) of the APA provide for exceptions from the APA notice and comment, and delay in effective date requirements. Section 553(b)(B) of the APA authorizes an agency to dispense with normal notice and comment rulemaking procedures for good cause if the agency makes a finding that the notice and comment process is impracticable, unnecessary, or contrary to the public interest, and includes a statement of the finding and the reasons for it in the rule. Similarly, section 553(d)(3) of the APA allows the agency to avoid the 30-day delay in effective date where good cause is found and the agency includes in the rule a statement of the finding and the reasons for it. In our view, this correcting document does not constitute a rulemaking that would be subject to these requirements.

This document merely corrects technical errors in the Managed Care final rule. The corrections contained in this document are consistent with, and do not make substantive changes to, the policies that were proposed, subject to notice and comment procedures, and adopted in the Managed Care final rule. As a result, the corrections made through this correcting document are intended to resolve inadvertent errors so that the rule accurately reflects the policies adopted in the final rule. Even if this were a rulemaking to which the notice and comment and delayed effective date requirements applied, we find that there is good cause to waive such requirements. Undertaking further notice and comment procedures to incorporate the corrections in this document into the Managed Care final rule or delaying the effective date of the corrections would be contrary to the public interest because it is in the public interest to ensure that the rule accurately reflects our policies as of the date they take effect. Further, such procedures would be unnecessary because we are not making any substantive revisions to the final rule, but rather, we are simply correcting the Federal Register document to reflect the policies that we previously proposed, received public comment on, and subsequently finalized in the final rule. For these reasons, we believe there is good cause to waive the requirements for notice and comment and delay in effective date.

Corrections

In FR Doc. 2024-08085 appearing on page 41002 in the Federal Register of Friday, May 10, 2024, make the following corrections:

Correction of Errors in the Preamble

1. On page 41003, in Table 1: Applicability Dates,

a. Row 7, second column, the sentence that reads “Applicable for the first rating period beginning on or afterJuly 9, 2026.” is corrected to read “Applicable for the first rating period beginning on or after July 9, 2026.”.

b. Row 13, second column, the sentence that reads “Applicable by the first rating period beginning on or after the release of reporting instructions.” is corrected to read “Applicable by the first rating period beginning on or after the date specified in the T-MSIS reporting instructions released by CMS.”.

2. On page 41004, Table 1: Applicability Dates, row 2, second column, the sentence that reads “Applicable by the end of the fourth calendar year following [inset the effective date of the final rule].” is corrected to read “Applicable by the end of the fourth calendar year following July 9, 2024.”.

3. On page 41119, second column, last full paragraph, line 12, the phrase that reads “State directed payment-” is corrected to read “State directed payment”.

4. On page 41123,

a. Beginning in the first column, last full paragraph, line 12 and continuing to the second column, lines 1 through 5, the sentence that reads “Currently CMS has standardized process that reviews T-MSIS data needs, proposes revisions to the T-MSIS submission file format(s), and provides opportunity for States' review and comment.” is corrected to read “Currently CMS has a standardized process that reviews T-MSIS data needs, proposes revisions to the T-MSIS submission file format(s), and provides opportunity for States' review and comment.”

b. Second column, first partial paragraph, lines 36 through 41, the sentence that reads “We are not finalizing proposed §§ 438.8(k)(1)(xiv) through (xvi) or § 438.74(a)(3) through (4) to require SDP line-level reporting in the State summary and managed care plan specific MLR report.” is corrected to read “We are not finalizing proposed §§ 438.8(k)(1)(xiv) through (xvi) or § 438.74(a)(3) through (4) to require SDP line-level reporting in the State summary and managed care plan specific MLR reports.”

5. On page 41130, second column, first partial paragraph, lines 17 through 24, the sentence that reads “We are finalizing the effective date for this provision as the first rating period beginning on or after 1 year after the effective date for the provider incentive changes in §§ 438.3(i), 438.608(e), and the existing cross-references at § 457.1200(d) for separate CHIP.” is corrected to read “We are finalizing the effective date for this provision as the first rating period beginning on or after 1 year after the effective date of the final rule for the provider incentive changes in §§ 438.3(i), 438.608(e), and the existing cross-references at § 457.1200(d) for separate CHIP.”

6. On page 41139, second column, second paragraph, lines 9 through 13, the sentence that reads “We are instead finalizing in revised § 438.608(a)(2) that States require managed care plans to define “prompt” as within 30 calendar days of identifying or recovery an overpayment.” is corrected to read “We are instead finalizing in revised § 438.608(a)(2) that States require managed care plans to define “prompt” as within 30 calendar days of identifying or recovery of an overpayment.”.

7. On page 41168, first column, first partial paragraph, lines 16 through 29, the sentence that reads “ “Within 30 calendar days of receipt of a notice described in paragraph(e)(2)(iii)(A), (B) or (C) of this section, the State must submit an ILOS transition plan to CMS for review and approval: (A) The notice the State provides to an MCO, PIHP, or PAHP of its decision to terminate an ILOS; (B) The notice an MCO, PIHP, or PAHP provides to the State of its decision to cease offering an ILOS to its enrollees; or (C) The notice CMS provides to the State of its decision to require the State to terminate an ILOS.” ” is corrected to read “ “Within 30 calendar days of receipt of a notice described in paragraph (e)(2)(iii)(A), (B) or (C) of this section, the State must submit an ILOS transition plan to CMS for review and approval. (A) The notice the State provides to an MCO, PIHP, or PAHP of its decision to terminate an ILOS. (B) The notice an MCO, PIHP, or PAHP provides to the State of its decision to cease offering an ILOS to its enrollees. (C) The notice CMS provides to the State of its decision to require the State to terminate an ILOS.” ”

8. On page 41245, third column, first partial paragraph, lines 10 through 14, the sentence that reads “In aggregate for Medicaid, we estimate an annual private sector burden of 168 hours (7 States × 24 hr) at a cost of $19,848 (168 hr × $118.14/hr).” is corrected to read “In aggregate for Medicaid, we estimate an annual State burden of 168 hours (7 States × 24 hr) at a cost of $19,848 (168 hr × $118.14/hr). In aggregate for CHIP, we estimate an annual State burden of 168 hours (7 States × 24 hr) at a cost of $19,848 (168 hr × $118.14/hr).”.

9. On page 41254, Table 6, Summary of CHIP Requirements and Burden, is corrected by adding the following entry directly above the entry for “457.1240(d) QRS website display yearly maintenance”:

Regulatory section in Title 42 of the CFR | OMB control number (CMS ID No.) | Number of respondents | Total No. of responses | Time per response (hours) | Total time (hours) | Labor rate ($/hr) | Total cost ($) | Frequency | Annualized time (hours) | Annualized cost ($)
457.1240(d) QRS optional methodology implementation extension | 0938-1282 (CMS-10554) | 7 States | 24 | 1 | 168 | 118.14 | 19,848 | Annual | n/a | n/a

10. On page 41255, in Table 6, Summary of CHIP Requirements and Burden, row 3, the “Total” entry is corrected to read as follows:

Regulatory section in Title 42 of the CFR | OMB control number (CMS ID No.) | Number of respondents | Total No. of responses | Time per response (hours) | Total time (hours) | Labor rate ($/hr) | Total cost ($) | Frequency | Annualized time (hours) | Annualized cost ($)
Total |  | Varies | 3,583 | Varies | 350,569 | Varies | 32,620,743 | Varies | 37,329 | 3,759,381

11. On page 41256, in Table 7, Summary of Medicaid and CHIP Requirements and Burden, rows 3 and 4, the “CHIP” and the “Total” entries are corrected to read as follows:

| OMB control number (CMS ID No.) | Number of respondents | Total No. of responses | Time per response (hours) | Total time (hours) | Labor rate ($/hr) | Total cost ($) | Frequency | Annualized time (hours) | Annualized cost ($)
CHIP | 0938-1282 (CMS-10554) | Varies | 3,583 | Varies | 350,569 | Varies | 32,620,743 | Varies | 37,329 | 3,759,381
Total |  | Varies | 22,539 | Varies | 1,880,524 | Varies | 168,966,977 | Varies | 112,542 | 10,889,606

B. Correction of Errors in the Regulation Text

§ 438.16 [Corrected]

1. On page 41274, third column, last paragraph, the regulation text for § 438.16(e)(2)(iii)(A), lines 1 through 3, the sentence that reads “(A) The notice the State provides to an MCO, PIHP, or PAHP of its decision to terminate an ILOS;” is corrected to read “(A) The notice the State provides to an MCO, PIHP, or PAHP of its decision to terminate an ILOS.”.

§ 438.515 [Corrected]

2. On page 41281, third column, second full paragraph, the regulation text for § 438.515(b)(1), lines 1 through 12, the sentence that reads “(1) Include data for all enrollees who receive coverage through the managed care plan for a service or action for which data are necessary to calculate the quality rating for the managed care plan including Medicaid FFS and Medicare data for enrollees who receive Medicaid benefits for the State through FFS and managed care, are dually eligible for both Medicare and Medicaid and receive full benefits from Medicaid, or both).” is corrected to read “(1) Include data for all enrollees who receive coverage through the managed care plan for a service or action for which data are necessary to calculate the quality rating for the managed care plan including Medicaid FFS and Medicare data for enrollees who receive Medicaid benefits for the State through FFS and managed care, are dually eligible for both Medicare and Medicaid and receive full benefits from Medicaid, or both.”.

Elizabeth J. Gramling,
Executive Secretary to the Department, Department of Health and Human Services.

[FR Doc. 2024-13712 Filed 6-21-24; 8:45 am]

BILLING CODE 4120-01-P